DEPARTMENT OF TRANSPORTATION

Federal Motor Carrier Safety Administration

[Docket No. FMCSA-2016-0293]

Agency Information Collection Activities; Reinstatement of an Information Collection: Financial Responsibility—Motor Carriers, Freight Forwarders, and Brokers

AGENCY: Federal Motor Carrier Safety Administration (FMCSA), DOT.

ACTION: Notice and request for comments.

SUMMARY: In accordance with the Paperwork Reduction Act of 1995, FMCSA announces its plan to submit the Information Collection Request (ICR) described below to the Office of Management and Budget (OMB) for reinstatement and approval and invites public comment. The FMCSA requests approval to reinstate, without any changes to the ICR titled, “Financial Responsibility—Motor Carriers, Freight Forwarders, and Brokers,” which is used to provide registered motor carriers, property brokers, and freight forwarders a means of meeting financial responsibility filing requirements. This ICR requires reinstatement because the previous ICR expired on February 28, 2017, before the ICR renewal request could be submitted to OMB for approval. The ICR sets forth the financial responsibility documentation requirements for motor carriers, freight forwarders, and brokers that arise as a result of the Agency's jurisdictional statutes. The reinstatement of the ICR allows the FMCSA to ensure the public is protected and will be compensated for claims involving bodily injury and property damage, or loss or damage to household goods, respectively, within the limits prescribed by FMCSA. Reinstatement of the ICR enforces the filing of surety bonds or trust fund agreements to help ensure that motor carriers and shippers are protected against non-performance of the broker's or freight forwarder's legal obligations. With reinstatement of the ICR, insurance companies can be held liable for any damages that may occur to the public (up to the limits of the policy), and to supersede any exclusions or limitations which may be contained in the insured motor carrier's or freight forwarder's policy. Additionally, FMCSA can make a determination regarding whether an entity qualifies for the grant of self-insurance authority.

DATES: Please send your comments by April 24, 2017. OMB must receive your comments by this date in order to act quickly on the ICR.

ADDRESSES: All comments should reference Federal Docket Management System (FDMS) Docket Number FMCSA-2016-0293. Interested persons are invited to submit written comments on the proposed information collection to the Office of Information and Regulatory Affairs, Office of Management and Budget. Comments should be addressed to the attention of the Desk Officer, Department of Transportation/Federal Motor Carrier Safety Administration, and sent via electronic mail to oira_submission@omb.eop.gov, or faxed to (202) 395-6974, or mailed to the Office of Information and Regulatory Affairs, Office of Management and Budget, Docket Library, Room 10102, 725 17th Street NW., Washington, DC 20503.

FOR FURTHER INFORMATION CONTACT: Ms. Tura Gatling, Office of Registration and Safety Information, Department of Transportation, Federal Motor Carrier Safety Administration, 1200 New Jersey Avenue SE., Washington, DC 20590-0001. Telephone Number: (202) 385-2412; Email Address: tura.gatling@dot.gov. Office hours are from 8:00 a.m. to 5:00 p.m., E.T., Monday through Friday, except Federal holidays.

SUPPLEMENTARY INFORMATION: The Secretary of Transportation (Secretary) is authorized to register for-hire motor carriers of property and passengers under the provisions of 49 U.S.C. 13902, surface freight forwarders under the provisions of 49 U.S.C. 13903, and property brokers under the provisions of 49 U.S.C. 13904. These persons may conduct transportation services only if they are registered pursuant to 49 U.S.C. 13901. The Secretary's authority to register these entities has been delegated to FMCSA. The registration, known as operating authority registration, remains valid only as long as these transportation entities maintain, on file with the FMCSA, evidence of the required levels of financial responsibility pursuant to 49 U.S.C. 13906. FMCSA regulations governing the financial responsibility requirements for these entities are found at 49 CFR part 387. The information collected from these forms are summarized and displayed in the Licensing and Information system.

Forms for Endorsements, Certificates of Insurance and Other Evidence of Bodily Injury and Property Damage (BI&PD) Liability and Cargo Liability Financial Responsibility

Forms BMC-91 and BMC-91X, titled “Motor Carrier Automobile Bodily Injury and Property Damage Liability Certificate of Insurance,” and Form BMC-82, titled “Motor Carrier Bodily Injury Liability and Property Damage Liability Surety Bond Under 49 U.S.C. 13906,” provide evidence of the required coverage for bodily injury and property damage (BI & PD) liability. A Form BMC-91X filing is required when a carrier's insurance is provided by multiple companies instead of just one. Form BMC-34, titled “Household Goods Motor Carrier Cargo Liability Certificate of Insurance,” and Form BMC-83, titled “Household Goods Motor Carrier Cargo Liability Surety Bond Under 49 U.S.C. 13906,” establish a carrier's compliance with the Agency's cargo liability requirements. Only household goods (HHG) motor carriers are required to file evidence of cargo insurance with FMCSA. 49 CFR 387.303(c). Form BMC-90, titled “Endorsement for Motor Carrier Policies of Insurance for Automobile Bodily Injury and Property Damage Liability Under Section 13906, Title 49 of the United States Code,” and Form BMC-32, titled “Endorsement for Motor Common Carrier Policies of Insurance for Cargo Liability Under 49 U.S.C. 13906,” are executed by the insurance company, attached to BI & PD or cargo liability insurance policy, respectively, and forwarded to the motor carrier or freight forwarder.

Requirement To Obtain Surety Bond or Trust Fund Agreement

Form BMC-84, titled “Broker's or Freight Forwarder's Surety Bond Under 49 U.S.C. 13906,” and Form BMC-85, titled “Broker's or Freight Forwarder's Trust Fund Agreement Under 49 U.S.C. 13906 or Notice of Cancellation of the Agreement,” are filed by brokers or freight forwarders to comply with the requirement that they must have a $75,000 surety bond or trust fund agreement in effect before FMCSA will issue property broker or freight forwarder operating authority registration.

Cancellation of Prior Filings

Form BMC-35, titled “Notice of Cancellation Motor Carrier Insurance under 49 U.S.C. 13906,” Form BMC-36, titled “Motor Carrier and Broker's Surety Bonds under 49 U.S.C. 13906 Notice of Cancellation,” and Form BMC-85, titled “Broker's or Freight Forwarder's Trust Fund Agreement Under 49 U.S.C. 13906 or Notice of Cancellation of the Agreement,” can be used to cancel prior filings.

Self-Insurance

Motor carriers can also apply to FMCSA to self-insure BI & PD and/or cargo liability in lieu of filing certificates of insurance with the FMCSA, as long as the carrier maintains a satisfactory safety rating (see 49 CFR 387.309.) Form BMC-40 is the application used by carriers to apply for self-insurance authority.

Title: Financial Responsibility—Motor Carriers, Freight Forwarders, and Brokers.

OMB Control Number: 2126-0017.

Type of Request: Reinstatement of an information collection.

Respondents: Motor Carriers, Freight Forwarders and Brokers.

Estimated Number of Respondents: 237,624.

Estimated Time per Response: The estimated average burden per response for Form BMC-40 is 40 hours. The estimated average burden per response for the remaining insurance forms (BMC-34, 35, 36, 82, 83, 84, 85, 91, and 91X) is 10 minutes per form.

Expiration Date: February 28, 2017.

Frequency of Response: Certificates of insurance, surety bonds, and trust fund agreements are required when the transportation entity first registers with FMCSA and then when such coverages are changed or replaced by these entities. Notices of cancellation are required only when such certificates of insurance, surety bonds, and trust fund agreements are cancelled. The BMC-40 is filed only when a carrier seeks approval from FMCSA to self-insure its bodily injury and property damage (BI & PD) and/or cargo liability coverage.

Estimated Total Annual Burden: 61,687 hours [2 BMC-40 filings per year × 40 hours to complete + 369,637 filings per year for all the other forms × 10 minutes/60 minutes to complete = 61,687].

Public Comments Invited: You are asked to comment on any aspect of this information collection, including: (1) Whether the proposed collection is necessary for the performance of FMCSA's functions; (2) the accuracy of the estimated burden; (3) ways for FMCSA to enhance the quality, usefulness, and clarity of the collected information; and (4) ways that the burden could be minimized without reducing the quality of the collected information.

Issued under the authority delegated in 49 CFR 1.87 on: March 20, 2017.
G. Kelly Regal,
Associate Administrator for Office of Research and Information Technology.

[FR Doc. 2017-05863 Filed 3-23-17; 8:45 am]

BILLING CODE 4910-EX-P